DEPARTMENT OF THE TREASURY

Submission for OMB Review; Comment Request

November 17, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 23, 2009 to be assured of consideration.

Alcohol and Tobacco Tax and Trade Bureau (TTB)

OMB Number: 1513-0045.

Type of Review: Extension.

Title: Distilled Spirits Plants—Excise Taxes (TTB REC 5110/06).

Description: This collection of information is necessary to account for and verify taxable removals of distilled spirits. The data is used to audit tax payments.

Respondents: Businesses or other for-profits.

Estimated Total Burden Hours: 3,458 hours.

OMB Number: 1513-0029.

Type of Review: Extension.

Form: TTB F 5120.20.

Title: Certification of Tax Determination—Wine.

Description: TTB F 5120.20 supports the exporter's claim for drawback, as the producing winery verifies that the wine being exported was in fact tax paid.

Respondents: Businesses or other for-profits.

Estimated Total Burden Hours: 500 hours.

OMB Number: 1513-0056.

Type of Review: Extension.

Title: Distilled Spirits Plants—Transaction and Supporting Records (TTB REC 5110/5).

Description: Transaction records provide the source data for accounts of distilled spirits in all DSP operations. They are used by DSP proprietors to account for spirits and by TTB to verify those accounts and consequent tax liabilities.

Respondents: Businesses or other for-profits.

Estimated Total Burden Hours: 13,516 hours.

OMB Number: 1513-0084.

Type of Review: Extension.

Title: Labeling of Sulfites in Alcoholic Beverages.

Description: In accordance with our consumer protection responsibilities, as mandated by law, TTB requires label disclosure statements on all alcoholic beverage products released from U.S. bottling premises or customs custody that contain 10 parts per million or more of sulfites. The disclosure reduces the consumer's exposure to sulfites, which has been shown to cause an allergic-type reaction in humans.

Respondents: Businesses or other for-profits.

Estimated Total Burden Hours: 9,518 hours.

OMB Number: 1513-0012.

Type of Review: Extension.

Form: TTB F 5150.18.

Title: User's Report of Denatured Spirits.

Description: The information on TTB F 5150.18 is used to pinpoint unusual activities in the use of specially denatured spirits. The form shows a summary of activities at permit premises. TTB examines and verifies certain entries on these reports to identify unusual activities, errors, and omissions.

Respondents: Businesses or other for-profits.

Estimated Total Burden Hours: 1,133 hours.

OMB Number: 1513-0080.

Type of Review: Extension.

Title: Equipment and Structures (TTB REC 5110/12).

Description: Marks, signs, and calibrations are necessary on equipment and structures at a distilled spirits plant. These tools are used for the identification of major equipment and the accurate determination of contents.

Respondents: Businesses or other for-profits.

Estimated Total Burden Hours: 1 hour.

OMB Number: 1513-0039.

Type of Review: Extension.

Form: TTB F 5110.11.

Title: Distilled Spirits Plants Warehousing Records (TTB REC 5110/02) and Monthly Report of Storage Operations.

Description: The information collected is used to account for proprietor's tax liability, adequacy of bond coverage, and protection of the revenue. It also provides data to analyze trends, audit plant operations, monitor industry activities and compliance to provide for efficient allocation of field personnel, plus provide for economic analysis.

Respondents: Businesses or other for-profits.

Estimated Total Burden Hours: 5,520 hours.

OMB Number: 1513-0011.

Type of Review: Extension.

Form: TTB F 5150.19.

Title: Formula and/or Process for Article Made With Specially Denatured Spirits.

Description: TTB F 5150.19 is completed by persons who use specially denatured spirits in the manufacture of certain articles. TTB uses the information provided on the form to ensure the manufacturing formulas and processes conform to the requirement of 26 U.S.C. 5273.

Respondents: Businesses or other for-profits.

Estimated Total Burden Hours: 2,415 hours.

OMB Number: 1513-0038.

Type of Review: Extension.

Form: TTB F 5100.16.

Title: Application to Receive Spirits and/or Denatured Spirits by Transfer in Bond.

Description: TTB F 5100.16 is completed by distilled spirits plant proprietors who wish to receive spirits in bond from other distilled spirits plants. TTB uses the information to determine if the applicant has sufficient bond coverage for the additional tax liability assumed when spirits are transferred in bond.

Respondents: Businesses or other for-profits.

Estimated Total Burden Hours: 300 hours.

OMB Number: 1513-0049.

Type of Review: Extension.

Form: TTB F 5110.43.

Title: Distilled Spirits Plant Denaturation Records (TTB REC 5110/04) and Monthly Report of Processing (Denaturing) Operations.

Description: The information collected is necessary to account for and verify the denaturation of distilled spirits. It is used to audit plant operations, monitor the industry for the efficient allocation of personnel resources, and compile statistics for government economic planning.

Respondents: Businesses or other for-profits.

Estimated Total Burden Hours: 1,176 hours.

OMB Number: 1513-0082.

Type of Review: Extension.

Title: Alternate Methods or Procedures and Emergency Variations from Requirements for Exports of Liquors (TTB REC 5170/7).

Description: TTB allows exporters to request approval of alternate methods from those specified in regulations under 27 CFR part 28. TTB uses the information to evaluate needs, jeopardy to the revenue, and compliance with the law. TTB also uses the information to identify areas where regulations need changing.

Respondents: Businesses or other for-profits.

Estimated Total Burden Hours: 200 hours.

OMB Number: 1513-0046.

Type of Review: Extension.

Form: TTB F 5110.38.

Title: Formula for Distilled Spirits under the Federal Alcohol Administration Act.

Description: TTB F 5110.38 is used to determine the classification of distilled spirits for labeling and for consumer protection. The form describes the person filing, type of product to be made, and restrictions to the labeling and manufacture. The form is used by TTB to ensure that a product is made and labeled properly and to audit distilled spirits operations.

Respondents: Businesses or other for-profits.

Estimated Total Burden Hours: 4,000 hours.

Clearance Officer: Frank Foote, (202) 927-9347, Alcohol and Tobacco Tax and Trade Bureau, Room 200 East, 1310 G Street, NW., Washington, DC 20005.

OMB Reviewer: Shagufta Ahmed, (202) 395-7873, Office of Management and Budget, Room 10235, New Executive Office Building, Washington, DC 20503.

Celina Elphage,
Treasury PRA Clearance Officer.

[FR Doc. E9-27978 Filed 11-20-09; 8:45 am]

BILLING CODE 4810-31-P